COMMITTEE FOR PURCHASE FROM PEOPLE WHO ARE BLIND OR SEVERELY DISABLED

Procurement List; Proposed Additions and Deletion

AGENCY: Committee for Purchase From People Who Are Blind or Severely Disabled.

ACTION: Proposed additions to and deletion from Procurement List.

SUMMARY: The Committee is proposing to add to the Procurement List services to be furnished by nonprofit agencies employing persons who are blind or have other severe disabilities, and to delete a commodity previously furnished by such agencies.

COMMENTS MUST BE RECEIVED ON OR BEFORE: April 2, 2001.

ADDRESSES: Committee for Purchase From People Who Are Blind or Severely Disabled, Jefferson Plaza 2, Suite 10800, 1421 Jefferson Davis Highway, Arlington, Virginia 22202-3250.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information. The following services have been proposed for addition to Procurement List for production by the nonprofit agencies listed:

Services

Administrative Services, Health Care Financing Administration, 7500 Security Blvd., Baltimore, Maryland

NPA: ServiceSource, Inc., Alexandria, Virginia

Administrative Services, U.S. Army Space Command, 1670 N. Newport Road, Colorado Springs, Colorado

NPA: Bayaud Industries, Inc., Denver, Colorado

Hospital Housekeeping Services, DeWitt Army Community Hospital, Fort Belvior, Virginia

NPA: The Chimes, Inc., Baltimore, Maryland

Janitorial/Custodial, FAA Flight Standards District Office, 9191 Plank Road, Baton Rouge, Louisiana

NPA: Louisiana Industries for the Disabled, Baton Rouge, Louisiana

Janitorial/Custodial, Social Security Building, Lewiston, Idaho

NPA: Opportunities Unlimited, Inc., Lewiston, Idaho

Janitorial/Custodial, U.S. Fish & Wildlife Service, Bosque del Apache NWR, Socorro, New Mexico

NPA: Tresco, Inc., Las Cruces, New Mexico

Janitorial/Custodial, U.S. Fish & Wildlife Service, Santa Ana NWR, Alamo, Texas

NPA: Training, Rehabilitation & Development Institute, Inc., San Antonio, Texas

Office Supply Store for the following locations:

Department of Energy, 1000 Independence Avenue, SW., Washington, DC

19901 Germantown Road, Germantown, Maryland

80300 Century Blvd, Germantown, Maryland

NPA: Winston-Salem Industries for the Blind, Winston-Salem, North Carolina

Deletion

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the commodity proposed for deletion from the Procurement List.

The following commodity has been proposed for deletion from the Procurement List:

Commodity:

Pallet, Wood

3990-00-NSH-0001

Louis R. Bartalot,
Deputy Director (Operations).

[FR Doc. 01-5129 Filed 3-2-01; 8:45 am]

BILLING CODE 6353-01-P